DEPARTMENT OF AGRICULTURE

Forest Service

Revised Land and Resource Management Plan, Wasatch-Cache National Forest, Utah

AGENCY: Forest Service, USDA.

ACTION: Notice of preliminary availability to release a draft environmental impact statement in conjunction with revision of the Land and Resource Management Plan for the Wasatch-Cache National Forest located in Box Elder, Cache, Davis, Duchesne, Morgan, Rich, Salt Lake, Summit, Tooele, Wasatch, and Weber counties, Utah; and Uinta County, Wyoming.

SUMMARY: The Department of Agriculture, Forest Service will release a Draft Environmental Impact Statement in conjunction with a revision of the Land and Resource Management Plan (hereinafter referred to as Proposed Forest Plan) for the Wasatch-Cache National Forest. Documents will be transmitted to the public on or before May 9, 2001. With publication of this notice, the Forest will meet the requirements of the NFMA planning regulations issued in November, 2000 to allow completion of the Proposed Forest Plan under the 1982 Planning Regulations (36 CFR part 219). An electronic version of the documents is being posted on the forest website, www.fs.fed.us/wcnf/, and will be available on or before May 4, 2001.

DATES: Comments concerning the Draft Environmental Impact Statement and Proposed Forest Plan should be received in writing 120 days from the date the Environmental Protection Agency publishes the Notice of Availability in the Federal Register (estimated to be May 18, 2001).

ADDRESSES: Send written comments to: Tom Tidwell, Forest Supervisor, Wasatch-Cache National Forest, 8236 Federal Building, 125 South State Street, Salt Lake City, Utah, 84138.

FOR FURTHER INFORMATION CONTACT: Melissa Blackwell, Planning Team Leader, Wasatch-Cache National Forest (801) 524-3908.

Responsible official: Jack Blackwell, Intermountain Regional Forester, at 324 25th Street, Ogden, UT 84401.

Dated: May 3, 2001.
Jack G. Troyer,
Deputy Regional Forester.

[FR Doc. 01-11613 Filed 5-8-01; 8:45 am]

BILLING CODE 3410-11-M